DEPARTMENT OF COMMERCE

Foreign-Trade Zones Board

[Docket 62-2003]

Foreign-Trade Zone 170—Clark County, IN; Application for Expansion

An application has been submitted to the Foreign-Trade Zones Board (the Board) by the Indiana Port Commission, grantee of Foreign-Trade Zone 170, requesting authority to expand its zone in the Clark County, Indiana, area, within the Louisville Customs port of entry. The application was submitted pursuant to the provisions of the Foreign-Trade Zones Act, as amended (19 U.S.C. 81a-81u), and the regulations of the Board (15 CFR part 400). It was formally filed on November 10, 2003.

FTZ 170 was approved on December 27, 1990 (Board Order 495, 56 FR 673, 1/8/91), and expanded on July 23, 1997 (Board Order 907, 62 FR 40796, 7/30/97). The zone currently consists of three sites in Clark County: Site 1 (35 acres)—within the 993-acre Clark Maritime Center Complex on Utica Pike at Port Road, Jeffersonville; Site 2 (22 acres)—at the Clark County Airport between State Route 31 and the airport terminal, Sellersburg; and, Site 3 (2,000 acres)— within the 10,000-acre former Indiana Army Ammunition Plant, 11452 State Road 62, Charlestown.

The applicant is now requesting authority to expand Site 1 to include an additional 958 acres. The change would cover the entire 993-acre Clark Maritime Center. The port is an active facility with companies involved in warehousing and distribution of steel, plastics, chemicals, metals, as well as general merchandise. The majority of the site is owned by the Indiana Port Commission. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is January 23, 2004. Rebuttal comments in response to material submitted during the foregoing period may be submitted during the subsequent 15-day period (to February 9, 2004).

A copy of the application and accompanying exhibits will be available during this time for public inspection at the Office of the Foreign-Trade Zones Board's Executive Secretary at address Number 1 listed above, and at the U.S. Department of Commerce Export Assistance Center, 601 W. Broadway, Room 634B, Louisville, Kentucky 40202.

Dated: November 12, 2003.
Dennis Puccinelli,
Executive Secretary.

[FR Doc. 03-29305 Filed 11-21-03; 8:45 am]

BILLING CODE 3510-DS-P